DEPARTMENT OF ENERGY

Federal Energy Regulatory Commission

[Docket No. AD23-3-000]

Establishing Interregional Transfer Capability Transmission Planning and Cost Allocation Requirements; Notice of Staff-Led Workshop

Take notice that Federal Energy Regulatory Commission (Commission) staff will convene a workshop to discuss whether and how the Commission could establish a minimum requirement for interregional transfer capability ¹ for public utility transmission providers in transmission planning and cost allocation processes in the above-captioned proceeding on December 5 and 6, 2022, from approximately 12:00 p.m. to 5:00 p.m. Eastern Time.

¹ The Commission's regulations, as revised by Order No. 890, define total transfer capability as “the amount of electric power that can be moved or transferred reliably from one area to another area of the interconnected transmission systems by way of all transmission lines (or paths) between those areas under specified system conditions, or such definition as contained in Commission-approved Reliability Standards.” 18 CFR 35.6(b)(1)(vi) (2021). In the context of interregional transfer capability, an “area” in the above definition would be a transmission planning region.

This workshop will consider the question of whether and how to establish a minimum requirement for interregional transfer capability. Topics for discussion may include: how to identify the purpose and value of setting a minimum requirement for interregional transfer capability; how to develop appropriate criteria, metrics, and models to establish a minimum requirement for interregional transfer capability; the transmission planning horizon and minimum interregional transfer capability requirements; whether operational agreements currently act as a barrier to interregional transfer capability; and how the costs of transmission facilities identified to achieve a minimum requirement for interregional transfer capability should be allocated between and/or within public utility transmission providers' transmission planning regions.

The workshop will take place virtually, with remote participation from both presenters and attendees. Further details on remote attendance and participation will be released prior to the workshop.

Individuals interested in participating as panelists should submit a self-nomination email by 5:00 p.m. Eastern Time on October 21, 2022, to TransferCapabilityWorkshop@ferc.gov. Each nomination should state the proposed panelist's name, contact information, organizational affiliation, position title, a short biography, and what topic(s) the proposed panelist would speak on. If applicable, please also include with the nomination the name and contact information of any other individual that should also be copied on correspondence.

The workshop will be open to the public and there is no fee for attendance. An additional supplemental notice will be issued with further details regarding the workshop agenda and logistics, as well as any changes in timing. Information will also be posted on the Calendar of Events on the Commission's website, www.ferc.gov, prior to the event.

The workshop will be transcribed and webcast. Transcripts will be available for a fee from Ace Reporting (202-347-3700). A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Commission workshops are accessible under section 508 of the Rehabilitation Act of 1973. For accessibility accommodations, please send an email to accessibility@ferc.gov, call toll-free (866) 208-3372 (voice) or (202) 208-8659 (TTY), or send a fax to (202) 208-2106 with the required accommodations.

For more information about this workshop, please contact Jessica Cockrell at jessica.cockrell@ferc.gov or (202) 502-8190. For information related to logistics, please contact Sarah McKinley at sarah.mckinley@ferc.gov or (202) 502-8368.

Dated: October 6, 2022.
Debbie-Anne A. Reese,
Deputy Secretary.

[FR Doc. 2022-22230 Filed 10-12-22; 8:45 am]

BILLING CODE 6717-01-P